DEPARTMENT OF DEFENSE

Department of the Navy

[Docket ID: USN-2018-HQ-0018]

Submission for OMB Review; Comment Request

AGENCY: Department of the Navy, DoD.

ACTION: 30-Day information collection notice.

SUMMARY: The Department of Defense has submitted to OMB for clearance the following proposal for collection of information under the provisions of the Paperwork Reduction Act.

DATES: Consideration will be given to all comments received by April 11, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: Non-Appropriated Fund Human Resource Management System (NAF HRMS); OMB Control Number 0703-XXXX.

Type of Request: New Information Collection.

Number of Respondents: 77,866.

Responses per Respondent: 1.

Annual Responses: 77,866.

Average Burden per Response: 30 minutes.

Annual Burden Hours: 38,933.

Needs and Uses: Respondents are applicants who are responding to an MCCS (Marine Corps Community Service) job posting on the MCCS Civilian Careers website, accessible at www.usmc-mccs.org/careers. The application delivers a systematic process which guides the applicants in completing and submitting it through the MCCS Civilian Careers website. Applicants are then able to log into their accounts and view their profile, track the status of their current application, and apply for future job postings. Maintaining the information collection in the NAF HRMS enables MCCS to successfully manage and administer an effective and efficient recruiting and hiring process. In addition, the NAF HRMS capabilities streamline the employment application process, reduce processing and recruiter response times, and decrease the need for applicant calls and inquiries, thereby improving the applicant's experience.

Affected Public: Business or other for-profit; individuals or households.

Frequency: On occasion.

Respondent's Obligation: Required to obtain or retain benefits.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela James.

Requests for copies of the information collection proposal should be sent to Ms. James at whs.mc-alex.esd.mbx.dd-dod-information-collections@mail.mil.

Dated: March 7, 2019.
Aaron T. Siegel,
Alternate OSD Federal Register Liaison Officer, Department of Defense.

[FR Doc. 2019-04465 Filed 3-11-19; 8:45 am]

BILLING CODE 5001-06-P